DEPARTMENT OF TRANSPORTATION

Federal Aviation Administration

RTCA Special Committee 200/EUROCAE Working Group 60: Modular Avionics, First Joint Plenary Meeting

AGENCY: Federal Aviation Administration (FAA), DOT.

ACTION: Notice of RTCA Special Committee 200/EUROCAE Working Group 60 meeting.

SUMMARY: The FAA is issuing this notice to advise the public of a meeting of RTCA Special Committee 200/EUROCAE Working Group 60: Modular Avionics.

DATES: The meeting will be held November 12-14, 2002 staring at 9 a.m.

ADDRESSES: The meeting will be held at EADS Airbus Hamburg-Finkenwerder (AIRBUS Plant, Haus 25, Room, Wintergarten 4th level) Kreetslag 10.21129, Hamburg, Germany.

FOR FURTHER INFORMATION CONTACT: (1) RTCA Secretariat, 1828 L Street, NW., Suite 805, Washington, DC 20036; telephone (202) 833-9339; fax (202) 833-9434; Web site http://www.rtca.org; (2) Peter Anders; (e-mail) peter.aners@airbus.com (Phone) 49/40 7437 4002.

SUPPLEMENTARY INFORMATION: Pursuant to section 10(a)(2) of the Federal Advisory Committee Act (Pub. L. 92-463, 5 U.S.C., Appendix 2), notice is hereby given for a Special Committee 200/EUROCAE Working Group 60 meeting. NOTE: You must check in if attending this meeting. The agenda will include:

• November 12:

• Opening Plenary Session (Welcome and Introductory Remarks, Review Agenda, Review/Approve previous Common Plenary Summary, Review Open Action Items);

• Brief status of work of Subgroup 1—Introduction, Modular Avionics Overview, Modular Avionics Design and Integration; Subgroup 2—Modular Avionics Systems and Component Certification and Reuse Change Process; and Subgroup 3—Significant Issues;

• Review and update Final Report outline;

• November 13:

• Subgroups 1-3 form and work in individual meetings;

• November 14:

• Report of Subgroup 1-3 meetings;

• Closing Plenary Session (Review Action Items, Date and Place of Next meeting, Adjourn).

Attendance is open to the interested public but limited to space availability. With the approval of the chairmen, members of the public may present oral statements at the meeting. Persons wishing to present oral statements at the meeting. Persons wishing to present statements or obtain information should contact the person listed in the FOR FURTHER INFORMATION CONTACT section. Members of the public may present a written statement to the committee at any time.

Issued in Washington, DC on October 17, 2002.
Janice L. Peters,
FAA Special Assistant, RTCA Advisory Committee.

[FR Doc. 02-27239 Filed 10-24-02; 8:45 am]

BILLING CODE 4910-13-M